DEPARTMENT OF THE INTERIOR

National Park Service

[NPS-NERO-CAJO-16042; PPNECAJO00, PPMPSPD1Z.YM0000]

Amendment of Captain John Smith Chesapeake National Historic Trail Advisory Council Meeting Date

AGENCY: National Park Service, Interior.

ACTION: Notice of amendment of meeting date.

SUMMARY: In accordance with the Federal Advisory Committee Act (5 U.S.C. Appendix 1-16), notice is hereby given of the change in date for the June 3, 2014, meeting of the Captain John Smith Chesapeake National Historic Trail Advisory Council.

DATES: The meeting date originally published on April 7, 2014, in the Federal Register, 79 FR 19121, has been changed. The new meeting date will be Tuesday, July 22, 2014, from 9:00 a.m.-12:00 p.m. (Eastern).

ADDRESSES: The meeting will be held at Wilson House on the campus of the Virginia Institute of Marine Science at 1375 Greate Road, Gloucester Point, VA 23062.

FOR FURTHER INFORMATION CONTACT: Christine Lucero, Partnership Coordinator, telephone (757) 258-8914 or email Christine_Lucero@nps.gov.

SUPPLEMENTARY INFORMATION: This meeting is open to the public. Preregistration is required for both public attendance and comment. Any individual who wishes to attend the meeting and/or participate in the public comment session should register via email at Christine_Lucero@nps.gov or telephone (757) 258-8914. For those wishing to make comments, please provide a written summary of your comments prior to the meeting. Before including your address, telephone number, email address, or other personal identifying information in your comment, you should be aware that your entire comment—including your personal identifying information—may be made publicly available at any time. While you may ask us in your comment to withhold your personal identifying information from public review, we cannot guarantee that we will be able to do so.

Dated: June 25, 2014.
Alma Ripps,
Chief, Office of Policy.

[FR Doc. 2014-15558 Filed 7-1-14; 8:45 am]

BILLING CODE 4310-EE-P